DEPARTMENT OF THE INTERIOR

Office of the Secretary

[16XD4523WS DS10100000 DWSN00000.000000 DP10020]

Statement of Findings: Bill Williams River Water Rights Settlement Act of 2014

AGENCY: Office of the Secretary, Interior.

ACTION: Notice.

SUMMARY: The Secretary of the Interior (Secretary) is publishing this notice in accordance with section 9 of the Bill Williams River Water Rights Settlement Act of 2014 (P.L. 113-223) (Settlement Act). The publication of this notice causes the waivers and release of certain claims to become effective as required to implement the Settlement.

DATES: This notice is effective December 11, 2015.

FOR FURTHER INFORMATION CONTACT: Address all comments and requests for additional information to Ruth Thayer, Chair, Hualapai Tribe Water Rights Settlement Negotiation Team, Department of the Interior, Bureau of Reclamation, Lower Colorado Region, P.O. Box 61470, Boulder City, NV 89006. (702) 293-8426.

SUPPLEMENTARY INFORMATION: The Settlement Act directs the Secretary of the Interior to enter into the Big Sandy River-Planet Ranch Water Rights Settlement Agreement and the Hualapai Tribe Bill Williams River Water Rights Settlement Agreement, to provide for the lease of certain land located within Planet Ranch on the Bill Williams River in the State of Arizona to benefit the Lower Colorado River Multi-Species Conservation Program, and to provide for the settlement of specific water rights claims in the Bill Williams River watershed in the State of Arizona. The non-federal settling parties submitted a signed settlement agreement to Congress prior to enactment of the Settlement Act (Pub. L. 113-223). The purposes of the Settlement Act are:

(1) To achieve a fair, equitable, and final settlement of certain claims among certain parties to water rights in the Bill Williams River watershed in the State of Arizona for

(A) the Hualapai Tribe (acting on behalf of the Tribe and members of the Tribe); and

(B) the Department of the Interior, acting on behalf of the Department and, as specified, the United States as trustee for the Hualapai Tribe, the members of the Tribe, and the allottees;

(2) to approve, ratify, and confirm

(A) the Big Sandy River-Planet Ranch Water Rights Settlement Agreement (Big Sandy River-Planet Ranch Agreement) entered into among the Hualapai Tribe, the United States as trustee for the Tribe, the members of the Tribe and allottees, the Secretary of the Interior, the Arizona department of water resources (ADWR), Freeport Minerals Corporation, the Arizona Game and Fish Commission, to the extent the Big Sandy River-Planet Ranch Agreement is consistent with the Settlement Act;

(B) the Hualapai Tribe Bill Williams River Water Rights Settlement Agreement (Hualapai Tribe Agreement) entered into among the Tribe, the United States as trustee for the Tribe, members of the Tribe, the allotees, and the Freeport Minerals Corporation, to the extent the Hualapai Tribe Agreement is consistent with the Settlement Act;

(3) to authorize and direct the Secretary

(A) to execute the duties and obligations of the Secretary under the Big Sandy River-Planet Ranch Agreement, the Hualapai Tribe Agreement, and the Settlement Act;

(B)(i) to remove objections to the applications for the severance and transfer of certain water rights, in partial consideration of the agreement of the parties to impose certain limits on the extent of the use and transferability of the severed and transferred water rights and other water rights; and

(ii) to provide confirmation of those water rights; and

(C) to carry out any other activity necessary to implement the Big Sandy River-Planet Ranch Agreement and the Hualapai Tribe Agreement in accordance with the Settlement Act;

(4) to advance the purposes of the Lower Colorado River Multi-Species Conservation Program (Conservation Program);

(5) to secure a long-term lease for a portion of Planet Ranch, along with appurtenant water rights primarily along the Bill Williams River corridor, for use in the Conservation Program;

(6) to bring the leased portion of Planet Ranch into public ownership for the long-term benefit of the Conservation Program; and

(7) to secure from the Freeport Minerals Corporation non-Federal contributions

(A) to support a tribal water supply study necessary for the advancement of a settlement of the claims of the Tribe for rights to Colorado River water; and

(B) to enable the Tribe to secure Colorado River water rights and appurtenant land, increase security of the water rights of the Tribe, and facilitate a settlement of the claims of the Tribe for rights to Colorado River water.

Statement of Findings

In accordance with section 9 of the Settlement Act, section 11.12(i) of the Amended and Restated Big Sandy River-Planet Ranch Water Rights Settlement Agreement, and section 10.13(i) of the Amended and Restated Hualapai Tribe Bill Williams River Water Rights Settlement Agreement, I find as follows:

(1)(A) To the extent that the Big Sandy River-Planet Ranch Agreement or the Hualapai Tribe Agreement conflict with the Settlement Act, the applicable agreement has been revised to eliminate the conflict; and

(B) the Big Sandy River-Planet Ranch Agreement, as revised, and the Hualapai Tribe Agreement, as revised, have been executed by all parties to those agreements;

(2) Freeport Minerals Corporation has submitted to the Arizona Department of Water Resources (ADWR) a conditional amendment of the sever and transfer applications for the Lincoln Ranch water right and amendments to sever and transfer applications for Planet Ranch and Lincoln Ranch water rights consistent with section 4.2.1(ii)(a) of the Big Sandy River-Planet Ranch Agreement;

(3) the Secretary and the Arizona Game and Fish Commission have executed and filed with ADWR a conditional withdrawal of each objection described in section 4(b)(3) of the Settlement Act and as provided in subsections 4.2.1(ii)(b) and 4.2.1(ii)(c) of the Big Sandy River-Planet Ranch Agreement;

(4)(A) ADWR has issued a conditional order approving the sever and transfer applications of Freeport Minerals Corporation; and

(B) all objections to the sever and transfer applications have been (i) conditionally withdrawn; or (ii) resolved in a decision issued by ADWR that is final and nonappealable;

(5) notice has been provided to the parties to the Big Sandy River-Planet Ranch Agreement and the Hualapai Tribe Agreement that the Department has completed the legally required environmental compliance described in section 8;

(6) the steering committee for the Lower Colorado River Multi-Species Conservation Program has approved and authorized the manager of the Conservation Program to execute the lease in the form as set forth in exhibit 2.33 to the Big Sandy River-Planet Ranch Agreement; and

(7) the waivers and releases authorized by section 6 have been executed by the Tribe and the Secretary.

Dated: December 7, 2015.
Sally Jewell,
Secretary of the Interior.

[FR Doc. 2015-31301 Filed 12-10-15; 8:45 am]

BILLING CODE 4334-63-P